DEPARTMENT OF ENERGY

Federal Energy Regulatory Commission

Notice of Amendment of License and Soliciting Comments, Motions To Intervene, and Protests

March 2, 2005.

Take notice that the following hydroelectric application has been filed with the Commission and is available for public inspection:

a. Application Type: Amendment of license.

b. Project No.: 2677-017.

c. Date Filed: January 26, 2005.

d. Applicant: City of Kaukauna, Wisconsin, acting through its enterprise fund Kaukauna Utilities (KU).

e. Name of Project: Badger-Rapide Croche.

f. Location: The project is located on the Fox River, in Outagamie County, Wisconsin.

g. Filed Pursuant to: Federal Power Act, 16 U.S.C. 791(a)-825(r).

h. Applicant Contacts: Mike Pedersen, Generation Superintendent, Kaukauna Utilities, 777 Island Street, P.O. Box 1777, Kaukauna, WI 54130-7077, (920) 462-0220, and Arie DeWaal, Project Manager, Mead & Hunt, Inc., 6501 Watts Road, Madison, WI 53719, (608) 273-6380.

i. FERC Contact: Regina Saizan, (202) 502-8765.

j. Deadline for Filing Comments and or Motions: April 18, 2005.

All Documents (Original and Eight Copies) Should Be Filed With: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-2677-017) on any comments or motions filed.

The Commission's Rules of Practice and Procedure require all interveners filing a document with the Commission to serve a copy of that document on each person in the official service list for the project. Further, if an intervener files comments or documents with the Commission relating to the merits of an issue that may affect the responsibilities of a particular resource agency, they must also serve a copy of the document on that resource agency.

k. Description of Amendment: The licensee requests that the license be amended to accelerate the expiration date of the license. The current expiration date of the license is December 31, 2018. The licensee requests the Commission to issue an order accelerating the expiration date of the license to not less than 5 years and 90 days from the date of the Commission order. The Badger-Rapide Croche Project consists of three developments: Old Badger, New Badger, and Rapide Croche. The Badger developments have experienced deterioration over the years. The 2.0-megawatt (MW) Old Badger powerhouse was built in 1908. The 3.6-MW New Badger powerhouse was built in 1929. The licensee intends to file an application for a new license proposing to rebuild the New Badger powerhouse, and to increase its installed capacity to 7 MW, and to decommission the Old Badger powerhouse due to its advanced state of deterioration. No modifications would be proposed for the existing 2.4-MW Rapide Croche powerhouse. Therefore, the licensee wishes to retire the existing license early and relicense the project for a new powerhouse to replace the existing Old/New Badger powerhouses. If the Commission grants the request for acceleration, the Commission will deem the request to be a notice of intent to file an application for a new license.

l. Locations of Application: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the street address for KU in item h. above.

m. Individuals desiring to be included on the Commission's mailing list should so indicate by writing to the Secretary of the Commission.

n. Comments, Protests, or Motions To Intervene—-Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—-Any filings must bear in all capital letters the title “COMMENTS”, “PROTEST”, OR “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representative.

Linda Mitry,
Deputy Secretary.

[FR Doc. E5-960 Filed 3-7-05; 8:45 am]

BILLING CODE 6717-01-P